DEPARTMENT OF HEALTH AND HUMAN SERVICES

Centers for Disease Control and Prevention

Disease, Disability, and Injury Prevention and Control; Special Emphasis Panel (SEP): A Prospective Birth Cohort Study Involving Environmental Uranium Exposure in the Navajo Nation (U01), Request for Applications (RFA) TS10-001, Initial Review

In accordance with section 10(a)(2) of the Federal Advisory Committee Act (Pub. L. 92-463), the Centers for Disease Control and Prevention (CDC), announces the aforementioned meeting:

Times and Date: 1 p.m.-4 p.m., July 8, 2010 (Closed).

Place: Teleconference.

Status: The meeting will be closed to the public in accordance with provisions set forth in Section 552b(c)(4) and (6), Title 5, U.S.C., and the Determination of the Director, Management Analysis and Services Office, CDC, pursuant to Section 10(d) of Public Law 92-463.

Matters To Be Discussed: The meeting will include the initial review, discussion, and evaluation of applications received in response to “A Prospective Birth Cohort Study Involving Environmental Uranium Exposure in the Navajo Nation (U01), (RFA) TS10-001”.

Agenda items are subject to change as priorities dictate.

Contact Person For More Information: Jane Suen, Dr.P.H., M.S., National Center for Injury Prevention and Control, Office of the Director, Extramural Research Program Office, 4770 Buford Highway, NE., Mailstop F-63, Atlanta, Georgia 30341, Telephone (770) 488-4281.

The Director, Management Analysis and Services Office has been delegated the authority to sign Federal Register notices pertaining to announcements of meetings and other committee management activities for both CDC and the Agency for Toxic Substances and Disease Registry.

Dated: May 6, 2010.
Elaine L. Baker,
Director, Management Analysis and Services Office Centers for Disease Control and Prevention.

[FR Doc. 2010-11414 Filed 5-14-10; 8:45 am]

BILLING CODE 4163-18-P